DEPARTMENT OF TRANSPORTATION

Surface Transportation Board

[Docket No. FD 35928]

Georges Creek Railway, LLC—Operation Exemption—Lines of CSX Transportation, Inc.

Georges Creek Railway, LLC (GCK), a Class III rail carrier, has filed a verified notice of exemption under 49 CFR 1150.41 to operate approximately 5.4 miles of rail line currently owned by CSX Transportation, Inc. (CSXT) in Allegany County, Md., consisting of: (1) Approximately 4.8 miles of CSXT's Georges Creek Subdivision between Barton, approximately milepost BAI 27.0, and Westernport, approximately milepost BAI 31.6; and (2) approximately 0.60 miles of CSXT's Thomas Subdivision, namely the two tracks running parallel to the Thomas mainline track between approximately milepost BAH 26.2 and approximately milepost BAH 26.8.

This transaction is related to a concurrently filed verified notice of exemption in Eighteen Thirty Group—Acquisition Exemption—Lines of CSX Transportation, Inc., Docket No. FD 35927, in which Eighteen Thirty Group, LLC (Eighteen Thirty) seeks Board approval to acquire the lines GCK wishes to operate.¹

¹ On May 5, 2015, Eighteen Thirty and GCK filed a joint amendment indicating that a milepost designation was incorrectly described in their respective notices of exemption. However, on May 6, 2015, they jointly submitted a letter asking that the Board disregard their amendment.

GCK certifies that: (1) Its projected annual revenues as a result of the transaction will not exceed $5 million and will not result in the creation of a Class II or Class I rail carrier; and (2) the Transaction Agreement between CSXT and Eighteen Thirty, which is dated April 10, 2015, does not contain an interchange commitment.

The transaction may be consummated on or after May 31, 2015, the effective date of the exemption.

If the verified notice contains false or misleading information, the exemption is void ab initio. Petitions to revoke the exemption under 49 U.S.C. 10502(d) may be filed at any time. The filing of a petition to revoke will not automatically stay the effectiveness of the exemption. Petitions for stay must be filed no later than May 22, 2015 (at least seven days before the exemption becomes effective).

An original and 10 copies of all pleadings, referring to Docket No. FD 35928, must be filed with the Surface Transportation Board, 395 E Street SW., Washington, DC 20423-0001. In addition, a copy of each pleading must be served on Fritz R. Kahn, Fritz R. Kahn, P.C., 1919 M Street NW., 7th Floor, Washington, DC 20036.

Board decisions and notices are available on our Web site at WWW.STB.DOT.GOV.

Decided: May 8, 2015.
By the Board, Joseph H. Dettmar, Acting Director, Office of Proceedings.
Jeffrey Herzig,
Clearance Clerk.

[FR Doc. 2015-11915 Filed 5-14-15; 8:45 am]

BILLING CODE 4915-01-P